DEPARTMENT OF DEFENSE

Defense Acquisition Regulations System

48 CFR Parts 201 and 204

[Docket DARS-2024-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective October 1, 2024.

FOR FURTHER INFORMATION CONTACT: Ms. Jennifer D. Johnson, Defense Acquisition Regulations System, telephone 703-717-8226.

SUPPLEMENTARY INFORMATION: This final rule amends the DFARS to make needed editorial changes to update an email address at DFARS 201.170 and to remove DFARS subpart 204.70, Procurement Acquisition Lead Time. This subpart consisted of a pointer to DFARS Procedures, Guidance, and Information, which is no longer needed.

List of Subjects in 48 CFR Parts 201 and 204

Government procurement.

Jennifer D. Johnson,
Editor/Publisher, Defense Acquisition Regulations System.

Therefore, the Defense Acquisition Regulations System amends 48 CFR parts 201 and 204 as follows:

1. The authority citation for 48 CFR parts 201 and 204 continues to read as follows:

Authority: 41 U.S.C. 1303 and 48 CFR chapter 1.

PART 201—FEDERAL ACQUISITION REGULATIONS SYSTEM

201.170 [Amended]

2. Amend section 201.170 in paragraph (a)(2)(ii) by removing “osd.pentagon.ousd-a-s.mbx.dpc-pcf@mail.mil” and adding “osd.pentagon.ousd-a-s.mbx.dpc-pcf-peer-reviews@mail.mil” in its place.

PART 204—ADMINISTRATIVE AND INFORMATION MATTERS

Subpart 204.70 [Removed and Reserved]

3. Remove and reserve subpart 204.70, consisting of section 204.7001.

[FR Doc. 2024-21096 Filed 9-25-24; 8:45 am]

BILLING CODE 6820-FR-P